DEPARTMENT OF TRANSPORTATION

Federal Aviation Administration

14 CFR Part 39

[Docket No. 94-ANE-38-AD; Amendment 39-12406; AD 2001-17-15]

RIN 2120-AA64

Airworthiness Directives; Honeywell International Inc. (formerly AlliedSignal Inc. and Textron Lycoming Inc.) LTS101 Series Turboshaft and LTP101 Series Turboprop Engines

AGENCY: Federal Aviation Administration, DOT.

ACTION: Final rule.

SUMMARY: This amendment supersedes an existing airworthiness directive (AD), AD 95-09-02, that applies to Honeywell International Inc. (formerly AlliedSignal Inc. and Textron Lycoming Inc.) LTS101 series turboshaft and LTP101 series turboprop engines. That AD superseded priority letter AD 94-19-01 and currently requires initial and repetitive inspections of the engine fuel pump internal drive splines for wear and replacement of engine fuel pumps that exhibit wear beyond specified limits.This amendment requires a reduction in inspection intervals for the engine fuel pump internal drive splines. This amendment is prompted by a report from the engine manufacturer that 13 percent of the pumps installed on aircraft that were returned from the field for the required 900-hour interval inspection revealed excessive internal drive spline wear. The actions specified by this AD are intended to prevent worn splines in fuel pumps which could cause engine fuel pump failure, which can result in total engine power loss and possible loss of the aircraft.

DATES: Effective date October 1, 2001. The incorporation by reference of certain publications listed in the regulations is approved by the Director of the Federal Register as of October 1, 2001.

ADDRESSES: The service information referenced in this AD may be obtained from Honeywell International, Inc., Attn: Data Distribution, M/S 64-3/2101-201, P.O. Box 29003, Phoenix, AZ 85038-9003, telephone: (602) 365-2493, fax: (602) 365-5577. This information may be examined at the Federal Aviation Administration (FAA), New England Region, Office of the Regional Counsel, 12 New England Executive Park, Burlington, MA; or at the Office of the Federal Register, 800 North Capitol Street, NW, suite 700, Washington, DC.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION: A proposal to amend part 39 of the Federal Aviation Regulations (14 CFR part 39) by superseding AD 95-09-02, Amendment 39-9206 (60 FR 20189, April 25, 1995), applicable to Textron Lycoming LTS101 series turboshaft and LTP101 series turboprop engines incorporating Chandler Evans Company (CECO) engine fuel pumps, part numbers (P/N's) 4-301-128-01, -02, -03, -04, -05, -06, -07, -08, -09, and -10 was published in the Federal Register on September 26, 2000 (65 FR 57753). That action proposed to require a reduction in inspection intervals for the engine fuel pump internal drive splines in accordance with AlliedSignal Service Bulletin (SB) LT 101-73-20-0203, dated August 18, 1999. Since the publication of the NPRM, Honeywell International Inc. purchased AlliedSignal and has issued SB LT 101-73-20-0203, Revision 1, dated January 5, 2001.

Comments

Interested persons have been afforded an opportunity to participate in the making of this amendment. No comments were received on the proposal or the FAA's determination of the cost to the public. However, certain editorial changes have been made to the “Initial Inspection” section of the AD Compliance for clarification without changing the requirements of the AD.

Updated Service Bulletin

Since the publication of the NPRM, the FAA has reviewed and approved the contents of Honeywell International Inc. SB LT 101-73-20-0203, Revision 1, dated January 5, 2001. The revised SB differs from the original SB only in that it also covers engine model LTS101-600A-3A and pump P/N 4-301-128-11. Engine model LTS-600A-3A represents a conversion from engine model LTS-600A-3, and the addition of this new engine model to the applicability of this AD will not increase the number of engines affected by this AD. Pump P/N 4-301-128-11 is installed on engine model LTS-600A-3A. Therefore, the FAA has added engine model LTS-600A-3A and pump P/N 4-301-128-11 to the applicability of this AD.

Conclusion

After careful review of the available data, the FAA has determined that air safety and the public interest require the adoption of the rule with the changes described. The FAA has determined that these changes will neither increase the economic burden on any operator nor increase the scope of the AD.

Economic Analysis

Because initial removal and replacement activities are scheduled at intervals compatible with existing AD 95-09-02, no additional impact on part and labor cost is anticipated. The number of engines affected by this AD does not change.

Regulatory Impact

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-9206 (60 FR 20189, April 25, 1995) and by adding a new airworthiness directive (AD), Amendment 39-12406, to read as follows:

AD 2001-17—15 Honeywell International Inc.: Amendment 39-12406. Docket No. 94-ANE-38-AD. Supersedes AD 95-09-02, Amendment 39-9206.

Applicability: This airworthiness directive (AD) is applicable to Honeywell International Inc. (formerly AlliedSignal Inc. and Textron Lycoming Inc.) LTS101-600A-2, -600A-3 and -600A-3A series turboshaft and LTP101-600A-1A, -700A-1A series turboprop engines incorporating Chandler Evans Company (CECO) engine fuel pumps, part numbers (P/N's) 4-301-128-01, -02, -03, -04, -05, -06, -07, -08, -09, and -10 and -11. These engines are installed on but not limited to the following single-engine aircraft: Eurocopter France (formerly Aerospatiale) AS350D series helicopters and Airtractor AT302, Pacific Aero 08-600, and Page (Ayres S-2R) Thrush series airplanes. This AD is not applicable to engines installed on twin-engine aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (h) of this AD. The request should include an assessment of the effect of the modification, alteration, or repair on the unsafe condition addressed by this AD; and, if the unsafe condition has not been eliminated, the request should include specific proposed actions to address it.

Compliance

Required as indicated, unless accomplished previously.

To prevent engine fuel pump failure, which can result in total engine power loss and possible loss of the aircraft, accomplish the following:

Initial Inspection

(a) Remove from service and return to CECO for inspection, engine fuel pumps with greater than 751 hours time-in-service (TIS), but less than 900 hours TIS since new, overhaul, or time since last inspection on the effective date of this AD, within the next 100 hours TIS after the effective date of this AD, in accordance with AlliedSignal Service Bulletin (SB) LT 101-73-20-0203, dated August 18, 1999, or Honeywell International Inc. SB LT 101-73-20-0203, Revision 1, dated January 5, 2001.

(b) Remove from service and return to CECO for inspection, engine fuel pumps with greater than 451 hours TIS, but less than or equal to 750 hours TIS since new, overhaul, or time since last inspection, on the effective date of this AD, within the next 150 hours TIS after the effective date of this AD, in accordance with AlliedSignal SB LT 101-73-20-0203, dated August 18, 1999, or Honeywell International Inc. SB LT 101-73-20-0203, Revision 1, dated January 5, 2001.

(c) Remove from service and return to CECO for inspection, engine fuel pumps with less than or equal to 450 hours TIS, but less than 600 hours TIS since new, overhaul, or time-since-last-inspection on the effective date of this AD, within the next 150 hours TIS after the effective date of this AD, whichever occurs first, in accordance with AlliedSignal SB LT 101-73-20-0203, dated August 18, 1999, or Honeywell International Inc. SB LT 101-73-20-0203, Revision 1, dated January 5, 2001.

(d) The time since last inspection in compliance with AD 95-09-02 may be applied to satisfy the inspection time requirements of (a), (b), and (c).

(e) Thereafter, remove from service and return to CECO for inspection, engine fuel pump at intervals not to exceed 600 hours TIS since the last inspection in accordance with the Accomplishment Instructions of AlliedSignal SB LT 101-73-20-0203, dated August 18, 1999, or Honeywell International Inc. SB LT 101-73-20-0203, Revision 1, dated January 5, 2001.

(f) Engine fuel pumps that exhibit wear beyond the limits specified in AlliedSignal SB LT 101-73-20-0203, dated August 18, 1999, or Honeywell International Inc. SB LT 101-73-20-0203, Revision 1, dated January 5, 2001, may not be returned to service.

Definition

(g) For the purposes of this AD, a serviceable part is defined as a new part, or a part that has been inspected by CECO in accordance with AlliedSignal SB LT 101-73-20-0203, dated August 18, 1999, or Honeywell International Inc. SB LT 101-73-20-0203, Revision 1, dated January 5, 2001, and that has not accumulated 600 hours TIS since new, or since inspection by CECO.

Alternative Method of Compliance

(h) An alternative method of compliance or adjustment of the compliance time that provides an acceptable level of safety may be used if approved by the Manager, Los Angeles Aircraft Certification Office (LAACO). Operators must submit their requests through an appropriate FAA Principal Maintenance Inspector, who may add comments and then send it to the Manager, LAACO.

Note 2: Information concerning the existence of approved alternative methods of compliance with this airworthiness directive, if any, may be obtained from the LAACO. An alternative method of compliance or adjustment of the compliance time that provides an acceptable level of safety may be used if approved by the Manager, LAACO. The request should be forwarded through an appropriate FAA Principal Maintenance Inspector, who may add comments and then send it to the Manager, LAACO.

Special Flight Permits

(i) Special flight permits may be issued in accordance with sections 21.197 and 21.199 of the Federal Aviation Regulations (14 CFR 21.197 and 21.199) to operate the aircraft to a location where the requirements of this AD can be accomplished.

Documents That Have Been Incorporated by Reference

(j) The inspection shall be done in accordance with the following AlliedSignal and Honeywell International Inc. service bulletins:

Document No. | Pages and revision | Date
AlliedSignal, SB LT 101-73-20-0203, Total pages: 4 | All—Original | August 18, 1999.
Honeywell International, SB No. LT 101-73-20-0203
Total pages: 4 | All—Revision 1 | January 5, 2001.

This incorporation by reference was approved by the Director of the Federal Register in accordance with 5 U.S.C. 552(a) and 1 CFR part 51. Copies may be obtained from Honeywell International, Inc, Attn: Data Distribution, M/S 64-3/2101-201, P.O. Box 29003, Phoenix, AZ 85038-9003, telephone: (602) 365-2493, fax: (602) 365-5577. Copies may be inspected at the FAA, New England Region, Office of the Regional Counsel, 12 New England Executive Park, Burlington, MA; or at the Office of the Federal Register, 800 North Capitol Street, NW., suite 700, Washington, DC.

(k) This amendment becomes effective on October 1, 2001.

Issued in Burlington, Massachusetts, on August 16, 2001.
Jay J. Pardee,
Manager, Engine and Propeller Directorate, Aircraft Certification Service.

[FR Doc. 01-21220 Filed 8-24-01; 8:45 am]

BILLING CODE 4910-13-U